DEPARTMENT OF THE TREASURY

Office of Foreign Assets Control

Sanctions Actions Pursuant to Executive Orders 13661, 13662, and 13685

AGENCY: Office of Foreign Assets Control, Treasury.

ACTION: Notice.

SUMMARY: The Treasury Department's Office of Foreign Assets Control (OFAC) is publishing the names of 15 persons whose property and interests in property are blocked, and two vessels identified as property in which a specially designated national has an interest and are therefore blocked, pursuant to one or more of the following authorities: Executive Order (E.O.) 13661 and E.O. 13685; and other entities who are subject to the prohibitions of a directive under E.O. 13662.

DATES: OFAC's actions described in this notice were effective on December 20, 2016, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac). A complete listing of persons determined to be subject to one or more directives under E.O. 13662, as discussed in detail in this Notice, can be found in the Sectoral Sanctions Identifications List at http://www.treasury.gov/resource-center/sanctions/SDN-List/Pages/ssi_list.aspx.

Notice of OFAC Actions

On December 20, 2016, OFAC blocked the property and interests in property of the following persons pursuant to E.O. 13661, “Blocking Property of Additional Persons Contributing to the Situation in Ukraine”:

Individuals

1. DEDOV, Mikhail Aleksandrovich, Russia; DOB 04 Sep 1952; Gender Male (individual) [UKRAINE-EO13661].

2. KLISHIN, Mikhail Alekseevich, Russia; DOB 09 Oct 1954; Gender Male (individual) [UKRAINE-EO13661].

3. KOVALCHUK, Kirill Mikhailovich, Russia; DOB 1968; Gender Male (individual) [UKRAINE-EO13661].

4. LEBEDEV, Dmitri Alekseevich, Russia; DOB 1968; Gender Male (individual) [UKRAINE-EO13661].

5. MANSUROV, Dmitri Flerovich, Russia; DOB 1977; Gender Male (individual) [UKRAINE-EO13661].

6. MINAEV, Oleg Aleksandrovich, Russia; DOB 1971; Gender Male (individual) [UKRAINE-EO13661].

7. PRIGOZHIN, Yevgeniy Viktorovich (a.k.a. PRIGOZHIN, Evgeny), Russia; DOB 1961; Gender Male (individual) [UKRAINE-EO13661].

On December 20, 2016, OFAC blocked the property and interests in property of the following persons pursuant to E.O. 13685, “Blocking Property of Certain Persons and Prohibiting Certain Transactions With Respect to the Crimea Region of Ukraine”:

Entities

1. INSTITUT STROIPROEKT, AO (a.k.a. AKTSIONERNOE OBSHCESTVO INSTITUT STROIPROEKT; a.k.a. AO INSTITUT STROIPROEKT; a.k.a. AO INSTITUTE STROYPROEKT; f.k.a. INSTITUT STROIPROEKT ZAKRYTOE AKTSIONERNOE OBSHCHESTVO; a.k.a. INSTITUTE STROYPROECT; a.k.a. STROYPROEKT; a.k.a. STROYPROEKT ENGINEERING GROUP), D. 13 Korp. 2 LiteraA Prospekt Dunaiski, St. Petersburg 196158, Russia; 13/2 Dunaisky Prospect, St. Petersburg 196158, Russia; Web site http://www.stpr.ru; Email Address Most@stpr.ru; alt. Email Address Murina@stpr.ru; Registration ID 1027810258673; Tax ID No. 7826688390; Government Gazette Number 11117863 [UKRAINE-EO13685].

2. KARST, OOO (a.k.a. CONSTRUCTION HOLDING COMPANY OLD CITY—KARST; a.k.a. OBSHCESTVO S OGRANICHENNOI OTVETSTVENNOSTYU KARST; a.k.a. “KARST LTD.”; a.k.a. “LLC KARST”), D. 4 Litera A Pomeshchenie 69 ul. Kapitanskaya, St. Petersburg 199397, Russia; 4 Kapitanskaya Street, Unit A, Office 69-N, St. Petersburg 199397, Russia; Web site http://www.oldcitykarst.ru; Registration ID 1037800012711; Tax ID No. 7801106690; Government Gazette Number 48937526 [UKRAINE-EO13685].

3. CRIMEAN PORTS (a.k.a. STATE UNITARY ENTERPRISE OF THE REPUBLIC OF CRIMEA `CRIMEAN PORTS'; a.k.a. SUE RK `CRIMEAN PORTS'; a.k.a. “SUE RC `KMP' ”), 28 Kirov Street, Kerch, Republic of Crimea 98312, Ukraine; Email Address crimeaport@mail.ru; Registration ID 1149102012620; V.A.T. Number 9111000450 [UKRAINE-EO13685].

4. CRIMEAN RAILWAY (a.k.a. FEDERAL STATE UNITARY ENTERPRISE `CRIMEAN RAILWAY'; a.k.a. KRYMZHD; a.k.a. THE RAILWAYS OF CRIMEA), 34 Pavlenko Street, Simferopol, Republic of Crimea 95006, Ukraine; Web site http://www.crimearw.ru; Email Address ngkkjd@mail.ru; Registration ID 1159102022738; V.A.T. Number 9102157783 [UKRAINE-EO13685].

5. LLC RUSCHEMTRADE, st. Mashinostroitelnyj, 3, Rostov-on-Don 344090, Russia; 86/1, Temryuk, Krasnodar 353500, Russia; Web site http://ruschemtrade.com [UKRAINE-EO13685] (Linked To: OJSC SOVFRACHT).

6. SOLID LTD (a.k.a. OOO SOLID), ul Mira 4, Novorossiysk, Krasnodarskiy kray 630024, Russia [UKRAINE-EO13685] (Linked To: OJSC SOVFRACHT).

7. TRANS-FLOT JSC (a.k.a. JSC TRANS-FLOT), ul Ventseka 1/97, Samara 443099, Russia; Web site www.trans-flot.ru [UKRAINE-EO13685] (Linked To: OJSC SOVFRACHT).

8. TRANSPETROCHART CO LTD, prospekt Engelsa 30, St Petersburg 194156, Russia [UKRAINE-EO13685] (Linked To: OJSC SOVFRACHT).

In addition, on December 20, 2016, OFAC identified the following vessels as property in which Trans-Flot JSC, an entity whose property and interests in property are blocked pursuant to E.O. 13685, has an interest:

Vessels

1. MARSHAL ZHUKOV Russia flag; Vessel Registration Identification IMO 9690224 (vessel) [UKRAINE-EO13685] (Linked To: TRANS-FLOT JSC).

2. STALINGRAD Russia flag; Vessel Registration Identification IMO 9690212 (vessel) [UKRAINE-EO13685] (Linked To: TRANS-FLOT JSC).

On December 20, 2016, OFAC determined that Russian Agricultural Bank owns, directly or indirectly, a 50 percent or greater interest in the entities listed below. As a result, these entities are subject to the prohibitions of Directive 1 (as amended) of September 12, 2014, issued pursuant to E.O. 13662, “Blocking Property of Additional Persons Contributing to the Situation in Ukraine” and 31 CFR 589.406 and 589.802, and following the Secretary of the Treasury's determination of July 16, 2014 pursuant to section l(a)(i) of E.O. 13662 with respect to the financial services sector of the Russian Federation economy.

Entities

1. AGROKREDIT-INFORM, AO (a.k.a. AKTSIONERNOE OBSHCHESTVO `AGROKREDIT-INFORM'; a.k.a. CLOSED JOINT-STOCK COMPANY `AGROCREDIT-INFORM'), 3 per. Gagarinski, Moscow 119034, Russia; 3 Gagarinsky Pereulok, Moscow, Russia; Executive Order 13662 Directive Determination—Subject to Directive 1; Registration ID 1087746334400; Tax ID No. 7704681172; Government Gazette Number 85651516; For more information on directives, please visit the following link: http://www.treasury.gov/resource-center/sanctions/Programs/Pages/ukraine.aspx#directives. [UKRAINE-EO13662] (Linked To: RUSSIAN AGRICULTURAL BANK).

2. ALBASHSKI ELEVATOR, OAO (f.k.a. AKTSIONERNOE OBSHCHESTVO OTKRYTOGO TIPA ALBASHKI ELEVATOR; a.k.a. OAO `ALBASHSKI ELEVATOR'; a.k.a. OPEN JOINT STOCK COMPANY `ALBASHSKIY ELEVATOR'; a.k.a. OTKRYTOE AKTSIONERNOE OBSHCHESTVO `ALBASHSKI ELEVATOR'), 15 per. Zaporozhski Stanitsa Novominskaya, Kanevskoi Raion, Krasnodarski Kr. 353701, Russia; 15 Zaporogskiy Pereulok, Novominskaya Village, Kanevskoy District, Krasnodar Region, Russia; Email Address albashskiy@mail.ru; Executive Order 13662 Directive Determination—Subject to Directive 1; Registration ID 1022303977112; Tax ID No. 2334001310; Government Gazette Number 00940430; For more information on directives, please visit the following link: http://www.treasury.gov/resource-center/sanctions/Programs/Pages/ukraine.aspx#directives. [UKRAINE-EO13662] (Linked To: RUSSIAN AGRICULTURAL BANK).

3. BELOGLINSKI ELEVATOR, OAO (f.k.a. AKTSIONERNOE OBSHCHESTVO OTKRYTOGO TIPA BELOGLINSKI ELEVATOR; a.k.a. OAO `BELOGLINSKI ELEVATOR'; a.k.a. OPEN JOINT STOCK COMPANY `BELOGLINSKIY ELEVATOR'; a.k.a. OTKRYTOE AKTSIONERNOE OBSHCHESTVO `BELOGLINSKI ELEVATOR'), 1 ul. Privokzalnaya S. Belaya Glina, Beloglinski Raion, Krasnodarski Kr. 353040, Russia; 1 Privokzalnaya Str., Belaya Glina Village, Leningradsky District, Krasnodar Region, Russia; Email Address belnep00@mail.ru; Executive Order 13662 Directive Determination—Subject to Directive 1; Registration ID 1022303499074; Tax ID No. 2326002180; Government Gazette Number 00940482; For more information on directives, please visit the following link: http://www.treasury.gov/resource-center/sanctions/Programs/Pages/ukraine.aspx#directives. [UKRAINE-EO13662] (Linked To: RUSSIAN AGRICULTURAL BANK).

4. EYANSKI ELEVATOR, OAO (a.k.a. OPEN JOINT STOCK COMPANY `EYANSKI ELEVATOR'; a.k.a. OTKRYTOE AKTSIONERNOE OBSHCHESTVO `EYANSKI ELEVATOR'; f.k.a. OTKRYTOE AKTSIONERNOE OBSHCHESTVO OTKRYTOGO TIPA EYANSKI ELEVATOR), 29 ul. Grigoreva Stanitsa Novopokrovskaya, Novopokrovski Raion, Krasnodarski Kr. 353020, Russia; 29 Grigorieva Str., Novopokrovskaya Village, Novopokrovskiy District, Krasnodar Region, Russia; Email Address eya_silo@mail.ru; Executive Order 13662 Directive Determination—Subject to Directive 1; Registration ID 1022304420478; Tax ID No. 2344003814; Government Gazette Number 00940588; For more information on directives, please visit the following link: http://www.treasury.gov/resource-center/sanctions/Programs/Pages/ukraine.aspx#directives. [UKRAINE-EO13662] (Linked To: RUSSIAN AGRICULTURAL BANK).

5. KHOMYAKOVSKI KHLADOKOMBINAT, ZAO (a.k.a. CLOSED JOINT STOCK COMPANY `HOMIAKOVSKIY COLD STORAGE COMPLEX'; a.k.a. ZAKRYTOE AKTSIONERNOE OBSHCHESTVO `KHOMYAKOVSKI KHLADOKOMBINAT'; f.k.a. ZAKRYTOE AKTSIONERNOE OBSHCHESTVO KHOMYAKOVSKI KHLADOKOMBINAT), 16V ul. Khomyakovskaya Pos. Khomyakova, Tula, Tulskaya Obl. 300098, Russia; 16 Homiakovskaya Str., Homiakovo, Tula, Russia; Executive Order 13662 Directive Determination—Subject to Directive 1; Registration ID 1047100123586; Government Gazette Number 59192911; For more information on directives, please visit the following link: http://www.treasury.gov/resource-center/sanctions/Programs/Pages/ukraine.aspx#directives. [UKRAINE-EO13662] (Linked To: RUSSIAN AGRICULTURAL BANK).

6. KRYLOVSKI ELEVATOR, OAO (a.k.a. OAO `KRYLOVSKI ELEVATOR'; a.k.a. OPEN JOINT STOCK COMPANY `KRYLOVSKIY ELEVATOR'; a.k.a. OTKRYTOE AKTSIONERNOE OBSHCHESTVO `KRYLOVSKI ELVATOR'; f.k.a. OTKRYTOE AKTSIONERNOE OBSHCHESTVO OTKRYTOGO TIPA KRYLOVSKI ELEVATOR), 1 ul. Krasnogvardeiskaya Stanitsa Oktyabrskaya, Krylovski Raion, Krasnodarski Kr. 352085, Russia; 1 Krasnogvardeiskaya Str., Oktiabrskaya Village, Krylovski District, Krasnodar Region, Russia; Email Address klv_el@ibox.ru; Executive Order 13662 Directive Determination—Subject to Directive 1; Registration ID 1022304103678; Tax ID No. 2338003767; Government Gazette Number 26982360; For more information on directives, please visit the following link: http://www.treasury.gov/resource-center/sanctions/Programs/Pages/ukraine.aspx#directives. [UKRAINE-EO13662] (Linked To: RUSSIAN AGRICULTURAL BANK).

7. LADOZHSKI ELEVATOR, OAO (f.k.a. AKTSIONERNOE OBSHCHESTVO OTKRYTOGO TIPA LADOZHSKI ELEVATOR; a.k.a. OAO `LADOZHSKI ELEVATOR'; a.k.a. OPEN JOINT STOCK COMPANY `LADOGSKIY ELEVATOR'; a.k.a. OTKRYTOE AKTSIONERNOE OBSHCHESTVO `LADOZHSKI ELEVATOR'), 115 ul. Konshinykh Stanitsa Ladozhskaya, Ust-Labinski Raion, Krasnodarski Kr. 352320, Russia; 115 Konshinykh Str., Ladogskaya Village, Ust-Labinskiy District, Krasnodar Region, Russia; Executive Order 13662 Directive Determination—Subject to Directive 1; Registration ID 1022304972029; Tax ID No. 2356007563; Government Gazette Number 26370125; For more information on directives, please visit the following link: http://www.treasury.gov/resource-center/sanctions/Programs/Pages/ukraine.aspx#directives. [UKRAINE-EO13662] (Linked To: RUSSIAN AGRICULTURAL BANK).

8. MALOROSSISKI ELEVATOR, OAO (f.k.a. AKTSIONERNOE OBSHCHESTVO OTKRYTOGO TIPA MALOROSSISKI ELEVATOR RUS; a.k.a. OPEN JOINT STOCK COMPANY `MALOROSSIYSKIY ELEVATOR'; a.k.a. OTKRYTOE AKTSIONERNOE OBSHCHESTVO `MALOROSSISKI ELEVATOR'), 1 ul. Sadovaya Stanitsa Arkhangelskaya, Tikhoretski Raion, Krasnodarski Kr. 352118, Russia; 1 Sadovaya Str., Arkhangelskaya Village, Tikhoretskiy District, Krasnodar Region, Russia; Email Address 72307@mail.ru; Executive Order 13662 Directive Determination—Subject to Directive 1; Registration ID 1022304872754; Tax ID No. 2354003059; Government Gazette Number 00940708; For more information on directives, please visit the following link: http://www.treasury.gov/resource-center/sanctions/Programs/Pages/ukraine.aspx#directives. [UKRAINE-EO13662] (Linked To: RUSSIAN AGRICULTURAL BANK).

9. RASSVET, OAO (a.k.a. OAO `RASSVET'; a.k.a. OPEN JOINT STOCK COMPANY `RASSVET'; a.k.a. OTKRYTOE AKTSIONERNOE OBSHCHESTVO `RASSVET'; f.k.a. ZAKRYTOE AKTSIONERNOE OBSHCHESTVO RASSVET), D. Retyum, Luzhski Raion, Leningradskaya Obl. 188230, Russia; Retiun Village, Lujskiy District, Leningrad Region, Russia; Web site www.emitent-spb.ru; Email Address lugarassvet@mail.ru; Executive Order 13662 Directive Determination—Subject to Directive 1; Registration ID 1024701557726; Tax ID No. 4710004180; Government Gazette Number 00547371; For more information on directives, please visit the following link: http://www.treasury.gov/resource-center/sanctions/Programs/Pages/ukraine.aspx#directives. [UKRAINE-EO13662] (Linked To: RUSSIAN AGRICULTURAL BANK).

10. ROVNENSKI ELEVATOR, OAO (f.k.a. AKTSIONERNOE OBSHCHESTVO OTKRYTOGO TIPA ROVNENSKI ELEVATOR; a.k.a. OAO `ROVNENSKI ELEVATOR'; a.k.a. OPEN JOINT STOCK COMPANY `ROVNENSKIY ELEVATOR'; a.k.a. OTKRYTOE AKTSIONERNOE OBSHCHESTVO `ROVNENSKI ELEVATOR'), 1 ul. Mira Pos. Kubanski, Novopokrovski Raion, Krasnodarski Kr. 353011, Russia; 1 Mira Str., Kubanskiy Village, Novopokrovskiy District, Krasnodar Region, Russia; Email Address rovnenskiy@mail.ru; Executive Order 13662 Directive Determination—Subject to Directive 1; Registration ID 1022304420709; Tax ID No. 2344007569; Government Gazette Number 00940743; For more information on directives, please visit the following link: http://www.treasury.gov/resource-center/sanctions/Programs/Pages/ukraine.aspx#directives. [UKRAINE-EO13662] (Linked To: RUSSIAN AGRICULTURAL BANK).

11. STEPNYANSKI ELEVATOR, OAO (f.k.a. AKTSIONERNOE OBSHCHESTVO OTKRYTOGO TIPA STEPNYANSKI ELEVATOR; a.k.a. OAO `STEPNYANSKI ELEVATOR'; a.k.a. OPEN JOINT STOCK COMPANY `STEPNYANSIKY ELEVATOR'; a.k.a. OTKRYTOE AKTSIONERNOE OBSHCHESTVO `STEPNYANSKI ELEVATOR'), 2 ul. Krupskaya S. Krasnoe, Kushchevski Raion, Krasnodarski Kr. 352010, Russia; 2 Krupskoi Str., Krasnoe Village, Kutshevskiy District, Krasnodar Region, Russia; Email Address step_el@inbox.ru; Executive Order 13662 Directive Determination—Subject to Directive 1; Registration ID 1022304243279; Tax ID No. 2340003980; Government Gazette Number 00940648; For more information on directives, please visit the following link: http://www.treasury.gov/resource-center/sanctions/Programs/Pages/ukraine.aspx#directives. [UKRAINE-EO13662] (Linked To: RUSSIAN AGRICULTURAL BANK).

12. TD AGROTORG, OOO (a.k.a. OBSHCHESTVO S OGRANICHENNOI OTVETSTVENNOSTYU `TORGOVY' DOM `AGROTORG'; a.k.a. TRADING COMPANY `AGROTORG' LTD.), 3 per. Gagarinski, Moscow 119034, Russia; 3 Gagarinsky Pereulok, Moscow, Russia; Email Address fednev@rshb.ru; Executive Order 13662 Directive Determination—Subject to Directive 1; Registration ID 1047796863916; Tax ID No. 7704537299; Government Gazette Number 75319328; For more information on directives, please visit the following link: http://www.treasury.gov/resource-center/sanctions/Programs/Pages/ukraine.aspx#directives. [UKRAINE-EO13662] (Linked To: RUSSIAN AGRICULTURAL BANK).

13. UMANSKI ELEVATOR, OAO (a.k.a. OPEN JOINT STOCK COMPANY `UMANSKIY ELEVATOR'; a.k.a. OTKRYTOE AKTSIONERNOE OBSHCHESTVO `UMANSKI ELEVATOR'; f.k.a. OTKRYTOE AKTSIONERNOE OBSHCHESTVO OTKRYTOGO TIPA UMANSKI ELEVATOR), 1 per. Elevatorny Stanitsa Leningradskaya, Leningradski Raion, Krasnodarski Kr. 353740, Russia; 1 Elevatorniy Pereulok, Leningradskaya Village, Leningradskiy District, Krasnodar Region, Russia; Email Address umansk-el-yr@mail.ru; Executive Order 13662 Directive Determination—Subject to Directive 1; Registration ID 1022304292416; Tax ID No. 2341000195; Government Gazette Number 00940849; For more information on directives, please visit the following link: http://www.treasury.gov/resource-center/sanctions/Programs/Pages/ukraine.aspx#directives. [UKRAINE-EO13662] (Linked To: RUSSIAN AGRICULTURAL BANK).

14. VELICHKOVSKI ELEVATOR, OAO (a.k.a. OPEN JOINT STOCK COMPANY `VELICHKOVSKIY ELEVATOR'; a.k.a. OTKRYTOE AKTSIONERNOE OBSHCHESTVO `VELICHKOVSKI ELEVATOR'; f.k.a. OTKRYTOE AKTSIONERNOE OBSHCHESTVO OTKRYTOGO TIPA VELICHKOVSKI ELEVATOR), 1 ul. Elevatornaya Stanitsa Straovelichkovskaya, Kalininski Raion, Karsnodarski Kr. 353793, Russia; 1 Elevatornaya Str., Starovelichkovskaya Village, Kalininskiy District, Krasnodar Region, Russia; Email Address velsilos@mail.ru; Executive Order 13662 Directive Determination—Subject to Directive 1; Registration ID 1022303950360; Tax ID No. 2333003442; Government Gazette Number 00940536; For more information on directives, please visit the following link: http://www.treasury.gov/resource-center/sanctions/Programs/Pages/ukraine.aspx#directives. [UKRAINE-EO13662] (Linked To: RUSSIAN AGRICULTURAL BANK).

On December 20, 2016, OFAC determined that OAO Novatek owns, directly or indirectly, a 50 percent or greater interest in the entities listed below. As a result, these entities are subject to the prohibitions of Directive 2 (as amended) of September 12, 2014, issued pursuant to E.O. 13662, “Blocking Property of Additional Persons Contributing to the Situation in Ukraine” and 31 CFR 589.406 and 589.802, and following the Secretary of the Treasury's determination of July 16, 2014 pursuant to section l(a)(i) of E.O. 13662 with respect to the energy sector of the Russian Federation economy.

Entities

1. NOVATEK SEVERO-ZAPAD, OOO (a.k.a. LIMITED LIABILITY COMPANY `NOVATEK NORTH-WEST'; a.k.a. OBSHCHESTVO S OGRANICHENNOI OTVETSTVENNOSTYU `NOVATEK SEVERO-ZAPAD'; a.k.a. OOO NOVATEK SEVERO-ZAPAD), d. 7 Litera A ul. Paradnaya, St. Petersburg 191014, Russia; Executive Order 13662 Directive Determination—Subject to Directive 2; Registration ID 5067847486229 (Russia); Government Gazette Number 96782616 (Russia); For more information on directives, please visit the following link: http://www.treasury.gov/resource-center/sanctions/Programs/Pages/ukraine.aspx#directives. [UKRAINE-EO13662] (Linked To: OAO NOVATEK).

2. NOVATEK-CHELYABINSK, OOO (a.k.a. OBSHCHESTVO S OGRANICHENNOI OTVETSTVENNOSTYU `NOVATEK-CHELYABINSK'; a.k.a. OOO NOVATEK-CHELYABINSK; f.k.a. YAMALGAZRESURS-CHELYABINSK OOO), 42 prospekt Lenina, Chelyabinsk, Chelyabinskaya Obl. 454091, Russia; Executive Order 13662 Directive Determination—Subject to Directive 2; Registration ID 1107404003376; Tax ID No. 7404056114; Government Gazette Number 68628371; For more information on directives, please visit the following link: http://www.treasury.gov/resource-center/sanctions/Programs/Pages/ukraine.aspx#directives. [UKRAINE-EO13662] (Linked To: OAO NOVATEK).

3. NOVATEK-KOSTROMA, OOO (a.k.a. OBSHCHESTVO S OGRANICHENNOI OTVETSTVENNOSTYU `NOVATEK-KOSTROMA'; f.k.a. OBSHCHESTVO S OGRANICHENNOI OTVETSTVENNOSTYU KOSTROMSKAYA REGIONALNAYA KOMPANIYA PO REALIZATSII GAZA; a.k.a. OOO NOVATEK-KOSTROMA), 37 ul. Lesnaya, Kostroma, Kostromskaya Obl. 156005, Russia; Web site http://www.kostroma.novatek.ru/; Email Address p.marchenko@gas-kostroma.ru; Executive Order 13662 Directive Determination—Subject to Directive 2; Registration ID 1024400511794; Tax ID No. 4401017834; Government Gazette Number 50101120; For more information on directives, please visit the following link: http://www.treasury.gov/resource-center/sanctions/Programs/Pages/ukraine.aspx#directives. [UKRAINE-EO13662] (Linked To: OAO NOVATEK).

4. NOVATEK-PERM, OOO (a.k.a. OBSHCHESTVO S OGRANICHENNOI OTVETSTVENNOSTYU `NOVATEK-PERM'; a.k.a. OOO `NOVATEK-PERM'), 41 ul. Petropavlovskaya, Perm, Permski Kr. 614000, Russia; Email Address info@perm.novatek.ru; Executive Order 13662 Directive Determination—Subject to Directive 2; Registration ID 1105904008297; Tax ID No. 5904230529; Government Gazette Number 65136070; For more information on directives, please visit the following link: http://www.treasury.gov/resource-center/sanctions/Programs/Pages/ukraine.aspx#directives. [UKRAINE-EO13662] (Linked To: OAO NOVATEK).

5. NOVATEK-PUROVSKI ZPK, OOO (f.k.a. NOVA ZPK OOO; a.k.a. OBSHCHESTVO S OGRANICHENNOI OTVETSTVENNOSTYU `NOVATEK-PUROVSKI ZPK'; a.k.a. OOO NOVATEK-PUROVSKY ZPK), D. Limbei, Purovski Raion, Yamalo-Nenetski Okr. 629880, Russia; Email Address comon@zpk.novatek.ru; Executive Order 13662 Directive Determination—Subject to Directive 2; Registration ID 1048900851515; Tax ID No. 8911020197; Government Gazette Number 73157577; For more information on directives, please visit the following link: http://www.treasury.gov/resource-center/sanctions/Programs/Pages/ukraine.aspx#directives. [UKRAINE-EO13662] (Linked To: OAO NOVATEK).

6. NOVATEK-TARKOSALENEFTEGAZ, OOO (a.k.a. OBSHCHESTVO S OGRANICHENNOI OTVETSTVENNOSTYU `NOVATEK-TARKOSALENEFTEGAZ'; f.k.a. OBSHCHESTVO S OGRANICHENNOI OTVETSTVENNOSTYU PUR LEND; a.k.a. OOO NOVATEK-TARKOSALENEFTGAS), 28 ul. Tarasova, Tarko-Sale, Purovski Raion, Yamalo-Nentski Okr. 629850, Russia; Email Address global@tsng.novatek.ru; Executive Order 13662 Directive Determination—Subject to Directive 2; Registration ID 1058901201920; Tax ID No. 8911020768; Government Gazette Number 33589611; For more information on directives, please visit the following link: http://www.treasury.gov/resource-center/sanctions/Programs/Pages/ukraine.aspx#directives. [UKRAINE-EO13662] (Linked To: OAO NOVATEK).

7. NOVATEK-TRANSERVIS, OOO (a.k.a. OBSHCHESTVO S OGRANICHENNOI OTVETSTVENNOSTYU `NOVATEK-TRANSERVIS'; a.k.a. OOO NOVATEK-TRANSERVICE), D. Limbei, Purovski Raion, Yamalo-Nenetski Okr. 629880, Russia; Email Address novatek-ts@ts.novatek.ru; Executive Order 13662 Directive Determination—Subject to Directive 2; Registration ID 1036301402576; Tax ID No. 6330024410; Government Gazette Number 14563310; For more information on directives, please visit the following link: http://www.treasury.gov/resource-center/sanctions/Programs/Pages/ukraine.aspx#directives. [UKRAINE-EO13662] (Linked To: OAO NOVATEK).

8. NOVATEK-UST-LUGA, OOO (a.k.a. OBSHCHESTVO S OGRANICHENNOI OTVETSTVENNOSTYU `NOVATEK-UST-LUGA'; a.k.a. OOO `NOVATEK-UST-LUGA'), 5 ul. Shkolnaya D. Vistino, Kingiseppski Raion, Leningradskaya Obl. 188477, Russia; Executive Order 13662 Directive Determination—Subject to Directive 2; Registration ID 1074707002457; Tax ID No. 4707026057; Government Gazette Number 80675261; For more information on directives, please visit the following link: http://www.treasury.gov/resource-center/sanctions/Programs/Pages/ukraine.aspx#directives. [UKRAINE-EO13662] (Linked To: OAO NOVATEK).

9. NOVATEK-YARSALENEFTEGAZ, OOO (a.k.a. OBSHCHESTVO S OGRANICHENNOI OTVETSTVENNOSTYU `NOVATEK-YARSALENEFTEGAZ'), 9 ul. Respubliki, Salekhard, Yamalo-Nenetski Okr., Russia; Email Address v.solovyh@novatek.ru; Executive Order 13662 Directive Determination—Subject to Directive 2; Registration ID 1138901001194; Tax ID No. 8901028126; Government Gazette Number 27013953; For more information on directives, please visit the following link: http://www.treasury.gov/resource-center/sanctions/Programs/Pages/ukraine.aspx#directives. [UKRAINE-EO13662] (Linked To: OAO NOVATEK).

10. SHERVUD PREMER, OOO (a.k.a. OBSHCHESTVO S OGRANICHENNOI OTVETSTVENNOSTYU `SHERVUD PREMER'; a.k.a. SHERVUD PREMIER OOO), 8 per. Olsufevski, Moscow 119021, Russia; Executive Order 13662 Directive Determination—Subject to Directive 2; Registration ID 1027700226707; Tax ID No. 7716160907; Government Gazette Number 18470373; For more information on directives, please visit the following link: http://www.treasury.gov/resource-center/sanctions/Programs/Pages/ukraine.aspx#directives. [UKRAINE-EO13662] (Linked To: OAO NOVATEK).

11. TERNEFTEGAZ, ZAO (a.k.a. ZAO TERNEFTGAS), str. 2 ter. Promyshlenaya zone No. 11 Krasnoselkup, Krasnoselkupski Raion, Yamalo-Nenetski A.O. 629380, Russia; Executive Order 13662 Directive Determination—Subject to Directive 2; Registration ID 1098911000473; Tax ID No. 8912002715; Government Gazette Number 71216169; For more information on directives, please visit the following link: http://www.treasury.gov/resource-center/sanctions/Programs/Pages/ukraine.aspx#directives. [UKRAINE-EO13662] (Linked To: OAO NOVATEK).

12. YARGEO, OOO (a.k.a. OBSHCHESTVO S OGRANICHENNOI OTVETSTVENNOSTYU `YARGEO'; a.k.a. OOO YARGEO), 12/2 ul. Zvereva, Nadym, Yamalo-Nenetski Okr. 629730, Russia; Email Address loskutova@yargeo.novatek.ru; Executive Order 13662 Directive Determination—Subject to Directive 2; Registration ID 1038900502728; Tax ID No. 8901014564; Government Gazette Number 71215589; For more information on directives, please visit the following link: http://www.treasury.gov/resource-center/sanctions/Programs/Pages/ukraine.aspx#directives. [UKRAINE-EO13662] (Linked To: OAO NOVATEK).

Dated: December 20, 2016.
John E. Smith,
Acting Director, Office of Foreign Assets Control.

[FR Doc. 2016-31073 Filed 12-23-16; 8:45 am]

BILLING CODE 4810-AL-P